DEPARTMENT OF TRANSPORTATION

Federal Aviation Administration

Federal Aviation Administration Policy for Certification of New-Production Military-Derived Aircraft in Restricted Category

AGENCY: Federal Aviation Administration (DOT).

ACTION: Notice of policy and request for public comment.

SUMMARY: This notice announces the Federal Aviation Administration (FAA) policy for the type certification of new-production military-derived aircraft in restricted category as allowed by Title 14 of the Code of Federal Regulations (14 CFR) 21.25(a)(2) and 21.185(a).

DATES: Comments must be received on or before July 22, 2005.

ADDRESSES: Send all comments on this policy to: Federal Aviation Administration, Aircraft Certification Service, Aircraft Engineering Division, Certification Procedures Branch, AIR-110, Room 815, 800 Independence Avenue, SW., Washington, DC 20591, ATTN: Mr. Graham Long. You may also deliver comments to the address above, or via e-mail to: 9-AWA-AIR110-GNL2@faa.gov.

FOR FURTHER INFORMATION CONTACT: Mr. Graham Long, AIR-110, Room 815, Federal Aviation Administration, Aircraft Certification Service, Aircraft Engineering Division, AIR-110, 800 Independence Avenue, SW., Washington, DC 20591, Telephone (202) 267-3715, FAX: (202) 237-5340, or e-mail: 9-AWA-AIR110-GNL2@faa.gov.

SUPPLEMENTARY INFORMATION:

Comments Invited

You are invited to comment on the policy by submitting written data, views, or arguments to the above address. Comments received on the policy may be examined, before and after the comment closing date, in Room 815, FAA Headquarters Building, 800 Independence Avenue, SW., Washington, DC 20591, weekdays except Federal holidays, between 8:30 a.m. and 4:30 p.m. The Director, Aircraft Certification Service, will consider all communications received on or before the closing date before issuing the final Notice.

Background

Interested parties have approached us requesting approval of new-production, military-derived aircraft for use in restricted category special purpose operations. Those interested parties are seeking to have these new-production, military-derived aircraft eligible for U.S. civil airworthiness certification without passing through the military acquisition system. Note, under current regulations, new-production military-derived aircraft are eligible for an airworthiness certificate in restricted category (See 14 CFR 21.185(a)) provided:

(1) They are of a type having met the requirements of 14 CFR 21.25(a)(2);

(2) Are manufactured by the original manufacturer of the type for the U.S. Armed Forces (or its licensee); and

(3) Are manufactured under a Federal Aviation Administration (FAA) production approval (see generally 14 CFR part 21, Subpart G-Production Certificates).

The availability of new-production military-derived aircraft enables newer military-derived aircraft, with the original equipment manufacturers' (OEM) technical support, to operate in place of older military surplus aircraft currently being used.

How To Obtain Copies

You may get a copy of the proposed policy statement from the Internet at: http://www.faa.gov/Certification/Aircraft/DraftDoc/Comments.htm, by selecting Draft Policy Memos. You may also request a copy from Mr. Graham Long. See the section entitled FOR FURTHER INFORMATION CONTACT for the complete address.

Issued in Washington, DC, on June 15, 2005.
Susan J.M. Cabler,
Assistant Manager, Aircraft Engineering Division, Aircraft Certification Service.

[FR Doc. 05-12377 Filed 6-21-05; 8:45 am]

BILLING CODE 4910-13-M